DEPARTMENT OF TRANSPORTATION

Federal Aviation Administration

14 CFR Part 71

[Docket No. FAA-2011-0010; Airspace Docket No. 11-AAL-1]

RIN 2120-AA66

Amendment of Federal Airways; Alaska

AGENCY: Federal Aviation Administration (FAA), DOT.

ACTION: Final rule; technical amendment.

SUMMARY: This technical amendment corrects a final rule published in the Federal Register of April 28, 2011; subsequently delayed in the Federal Register of June 16, 2011; and announced with a new effective date in the Federal Register of December 9, 2011. In that rule, the route description of VHF Omnidirectional Range (VOR) Federal airway V-388 was inadvertently reversed. This technical amendment corrects that error.

DATES: Effective date 0901 UTC February 21, 2012. The Director of the Federal Register approves this incorporation by reference action under 1 CFR part 51, subject to the annual revision of FAA Order 7400.9 and publication of conforming amendments.

FOR FURTHER INFORMATION CONTACT: Colby Abbott, Airspace, Regulations, and ATC Procedures Group, Office of Mission Support Services, Federal Aviation Administration, 800 Independence Avenue SW., Washington, DC 20591; telephone: (202) 267-8783.

History

On April 28, 2011, the FAA published a final rule in the Federal Register, Docket No. FAA-2011-0010, Airspace Docket No. 11-AAL-1, that amended Title 14 Code of Federal Regulations part 71 by amending all Federal airways affected by the relocation of the Anchorage VOR navigation aid, (76 FR 23687). Subsequent to that rule, the FAA published in the Federal Register of June 16, 2011, a rule delaying the effective date (76 FR 35097), and then published in the Federal Register of December 9, 2011, a rule announcing the new effective date (76 FR 76891). In that rule, the route description for V-388 was published in an east to west direction in error. The correct direction for the route description for V-388 is west to east.

Amendment to Final Rule

Accordingly, pursuant to the authority delegated to me, the legal descriptions for V-388 for Airspace Docket No. FAA-2011-0010, Airspace Docket No. 11-AAL-1, as published in the Federal Register on April 28, 2011 (76 FR 23687), is corrected as follows:

On page 23688, column 2, lines 10 and 11, amend the V-388 description to read:

§ 71.1 [Amended]

* * * * *

“From Kenai, AK; INT Kenai 067°and Anchorage, AK, 208° radials; to Anchorage.” instead of “From Anchorage, AK, to INT Anchorage 208°and Kenai, AK, 067° Kenai, AK.”

Issued in Washington, DC, on February 9, 2012.
Gary A. Norek,
Acting Manager, Airspace, Regulations, and ATC Procedures Group.

[FR Doc. 2012-3816 Filed 2-17-12; 8:45 am]

BILLING CODE 4910-13-P